NUCLEAR REGULATORY COMMISSION

[Docket No. 50-482; NRC-2025-1633]

Wolf Creek Nuclear Operating Corporation; Wolf Creek Generating Station, 1; Partial Site Release

AGENCY: Nuclear Regulatory Commission.

ACTION: Public meeting; request for comment.

SUMMARY: The U.S. Nuclear Regulatory Commission (NRC) is considering a request from Wolf Creek Nuclear Operating Corporation (WCNOC, the licensee) to approve the release of 4.46 acres of land under the control of the NRC power reactor license for the WCNOC, Operating License No. NPF-42, to the Stringtown Cemetery Board. The NRC is soliciting public comments on the requested action and invites stakeholders and interested persons to participate.

DATES: The public meeting will be held on Wednesday, October 15, 2025, at New Strawn Fire Station, 301 W Lake Road, New Strawn, KS, from 7 p.m. until 8 p.m. central time (CT). See Section III “Request for Comment and Public Meeting” of this document for additional information.

Submit comments by October 15, 2025. Comments received after this date will be considered if it is practical to do so, but the NRC is able to ensure consideration only for comments received on or before this date.

ADDRESSES: You may submit comments by any of the following methods; however, the NRC encourages electronic comment submission through the Federal rulemaking website.

• Federal rulemaking website: Go to https://www.regulations.gov and search for Docket ID NRC-2025-1633. Address questions about Docket IDs in Regulations.gov to Bridget Curran; telephone: 301-415-1003; email: Bridget.Curran@nrc.gov. For technical questions, contact the individual(s) listed in the For Further Information Contact section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Samson Lee, Office of Nuclear Reactor Regulation, U.S. Nuclear Regulatory Commission, Washington, DC 20555-0001; telephone: 301-415-3168; email: Samson.Lee@nrc.gov.

SUPPLEMENTARY INFORMATION:

I. Obtaining Information and Submitting Comments

A. Obtaining Information

Please refer to Docket ID NRC-2025-1633 when contacting the NRC about the availability of information for this action. You may obtain publicly available information related to this action by any of the following methods:

• Federal Rulemaking Website: Go to https://www.regulations.gov and search for Docket ID NRC-2025-1633.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. The licensee's letter “Request for Partial Site Release,” dated August 26, 2025, is available in ADAMS under Accession No. ML25245A104.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2025-1633 in your comment submission. The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

WCNOC is the holder of Renewed Facility Operating License No. NPF-42 for Wolf Creek Generating Station, Unit 1 (Wolf Creek). The license provides, among other things, that Wolf Creek is subject to all rules, regulations, and orders of the NRC now or hereafter in effect. The Wolf Creek license (NPF-42, Docket No. 50-482) is for a power reactor under part 50 of title 10 of the Code of Federal Regulations (10 CFR), “Domestic Licensing of Production and Utilization Facilities.”

The NRC received a request for approval of a partial site release from WCNOC, by letter dated August 26, 2025 (ADAMS Accession No. ML25245A104). WCNOC requests NRC approval to remove and release from its 10 CFR part 50 license, 4.46 acres of land for the Stringtown Cemetery Board in accordance with 10 CFR 50.83(b). As described in 10 CFR 50.83(c), the NRC will determine whether the licensee has adequately evaluated the effect of releasing the properties per the requirements of 10 CFR 50.83(a)(1); determine whether the licensee's classification of any released areas as “non-impacted” is adequately justified; and if the NRC determines that the licensee's submittal is adequate, the NRC will inform the licensee in writing that the release is approved.

III. Request for Comment and Public Meeting

The NRC will conduct a public meeting to answer questions and gather comments regarding WCNOC's request for approval of the partial site release. The meeting will be held on Wednesday, October 15, 2025, from 7 p.m. until 8 p.m. CT, at New Strawn Fire Station, 301 W Lake Road, New Strawn, KS. Comments can be provided orally or in writing. The meeting is specifically tailored for the public to discuss relevant issues with the NRC and other stakeholders, to make comments, and ask questions throughout the meeting. Questions or concerns that cannot be resolved at the meeting will be assigned to a designated NRC staff person for action, but such comments will not otherwise constitute part of the decisional record.

Please contact Samson Lee no later than October 5, 2025, by phone at 301-415-3168 or by email at Samson.Lee@nrc.gov, if accommodations or special equipment are needed for you to attend or to provide comments, so that the NRC staff can determine whether the request can be accommodated.

For information regarding the meeting, Stakeholders should monitor the NRC's Public Meeting Schedule website for information at https://www.nrc.gov/public-involve/public-meetings/index.cfm. The agenda will be posted no later than 10 days prior to the meeting.

Dated: September 24, 2025.
For the Nuclear Regulatory Commission.
Samson Lee,
Senior Project Manager, Plant Licensing Branch IV, Division of Operating Reactor Licensing, Office of Nuclear Reactor Regulation.

[FR Doc. 2025-18763 Filed 9-25-25; 8:45 am]

BILLING CODE 7590-01-P